DEPARTMENT OF COMMERCE

Economic Development Administration

Notice of Petitions by Producing Firms for Determination of Eligibility To Apply for Trade Adjustment Assistance

AGENCY: Economic Development Administration (EDA), DOC.

ACTION: To give all interested parties an opportunity to comment.

Petitions have been accepted for filing on the dates indicated from the firms listed below.

List of Petition Action by Trade Adjustment Assistance for Period April 28, 2005-May 20, 2005
Firm name | Address | Date petition accepted | Product
ILX Lightwave Corporation | 31950 East Frontage Road, Bozeman, MT 59771 | 28-Apr-05 | Optical instruments.
Truitt Brothers, Inc | 1105 Front Street, N.E., Salem, OR 97308 | 02-May-05 | Pears.
Artifacts, Inc | 3120 West Oak Street, Palestine, TX 75801 | 03-May-05 | Hats.
Hunter Brothers, Inc | 1290 University Avenue, Rochester, NY 14610 | 04-May-05 | Heat treated, high speed steel machine knives.
Carballo Contract Machining | 4540 West 34th Street, Houston, TX 77092 | 05-May-05 | Valve bodies.
Deltron, Inc | 290 Wissahickon Avenue, North Wales, PA 19454 | 05-May-05 | Linear and switching power supplies.
Process Integrity, Inc | 5840 West Interstate 20, Arlington, TX 76017 | 05-May-05 | Execution system software.
Estul Tool & Manufacturing, Inc | 10737 Independence Point Pkwy., Matthews, NC 28105 | 12-May-05 | Parts of automatic door closers, electric lamps and light fittings, and machinery parts not containing electrical features.
River Valley Contract Manufacturing, Inc | 177 North Park Street, Menifee, AR 72107 | 12-May-05 | Harness, jumper and lead wiring sets.
Third Street Sportswear Manufacturing, Inc | 1106 South 3rd Street, Ozark, MO 65721 | 12-May-05 | Infant and children's sportswear.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7812, Economic Development Administration, U.S. Department of Commerce, Washington, DC 20230, no later than the close of business of the tenth calendar day following the publication of this notice. The Catalog of Federal Domestic Assistance official program number and title of the program under which these petitions are submitted is 11.313, Trade Adjustment Assistance.

Dated: May 24, 2005.
Anthony J. Meyer,
Senior Program Analyst, Office of Strategic Initiatives.

[FR Doc. 05-10862 Filed 5-31-05; 8:45 am]

BILLING CODE 3510-24-P